DEPARTMENT OF TRANSPORTATION

Office of the Secretary

2 CFR Part 1201

[Docket No. DOT-OST-2023-0032]

RIN 2105-AF06

Uniform Administrative Requirements, Cost Principles, and Audit Requirements for Federal Awards

AGENCY: Office of the Secretary (OST), U.S. Department of Transportation (DOT).

ACTION: Final rule.

SUMMARY: The Office of the Secretary of Transportation is updating the DOT regulation that adopts the Office of Management and Budget (OMB) Uniform Administrative Requirements, Cost Principles, and Audit Requirements for Federal Awards. This amendment responds to the 2020 changes to the Office of Management and Budget Guidance for Grants and Agreements, which amended OMB's Uniform Administrative Requirements, Cost Principles, and Audit Requirements for Federal Awards, by revising section cross-references.

DATES: Effective March 1, 2023.

FOR FURTHER INFORMATION CONTACT: Tevin Frederick, Office of the General Counsel (C-10), 1200 New Jersey Avenue SE, Washington, DC 20590, (202) 366-5189, tevin.frederick@dot.gov.

SUPPLEMENTARY INFORMATION:

Background

This final rule updates the DOT regulation that outlines the requirements for Federal Awards adopted in OMB's Uniform Administrative Requirements, Cost Principles, and Audit Requirements for Federal Awards (2 CFR part 200). The purpose of this rule is to revise section cross-references to conform with the 2020 changes to the OMB Guidance for Grants and Agreements (85 FR 49506; Aug. 13, 2020).

This rule updates cross-references in three sections of part 1201. This rule revises the cross-references in 2 CFR 1201.80 that refer to the definitions of program income and period of performance to reflect the OMB changes to 2 CFR 200 that moved all definitions to 2 CFR 200.1. Second, this rule changes the cross-reference in 2 CFR 1201.206 to reflect revisions in the OMB Guidance for Grants and Agreements that moved “Standard application requirements” to section 2 CFR 200.207. Lastly, this rule changes the cross-reference in 2 CFR 1201.327 to reflect revisions in the OMB Guidance for Grants and Agreements that moved “Financial reporting” from 2 CFR 200.327 to 2 CFR 200.328.

This final rule does not impose substantive requirements on the public. It is ministerial and relates only to technical corrections. As these changes will not have a substantive impact on the public, the Department does not expect to receive substantive comments on the rule. Therefore, the Department has determined that notice and comment are unnecessary and that the rule is exempt from prior notice and comment requirements under 5 U.S.C. 553(b)(3)(A). Similarly, under 5 U.S.C. 553(d)(3), the Department finds good cause for this rule to be effective less than 30 days after its publication in the Federal Register.

Regulatory Analyses and Notices

Executive Order 12866 (Regulatory Planning and Review) and DOT Regulatory Policies and Procedures

The Department has determined that this final rule is not a significant regulatory action under Executive Order 12866 and DOT Regulatory Policies and Procedures (44 FR 11034). It was not reviewed by the Office of Management and Budget. There are no costs associated with this rule.

Executive Order 13132 (Federalism)

This final rule has been analyzed in accordance with the principles and criteria contained in Executive Order 13132 (“Federalism”). This final rule does not have substantial direct effects on the States, on the relationship between the national government and the States, or on the distribution of power and responsibilities among the various levels of government. Therefore, the consultation requirements of Executive Order 13132 do not apply.

Executive Order 13175 (Consultation and Coordination With Indian Tribal Governments)

This final rule has been analyzed in accordance with the principles and criteria contained in Executive Order 13175 (“Consultation and Coordination with Indian Tribal Governments”). Because this final rule does not significantly or uniquely affect the communities of the Indian tribal governments and does not impose substantial or direct compliance costs, the funding and consultation requirements of Executive Order 13175 do not apply.

Regulatory Flexibility Act

Because no notice of proposed rulemaking is required for this rule under the Administrative Procedure Act, 5 U.S.C. 553, the provisions of the Regulatory Flexibility Act (5 U.S.C. 601 et seq.) do not apply. We also do not believe this rule will impose any costs on small entities because it is merely organizational in nature. I hereby certify that this final rule will not have a significant economic impact on a substantial number of small entities.

Paperwork Reduction Act

This final rule contains no information collection requirements under the Paperwork Reduction Act of 1995 (44 U.S.C. 3501-3520).

Unfunded Mandates Reform Act

The Unfunded Mandates Reform Act of 1995 (2 U.S.C. 1531-1538) does not require a written statement for this final rule because the rule does not include a Federal mandate that may result in the expenditure in any one year of $100,000,000 or more (adjusted annually for inflation) by State, local, and tribal governments, or the private sector.

National Environmental Policy Act

DOT has analyzed the environmental impacts of this action pursuant to the National Environmental Policy Act of 1969 (NEPA) (42 U.S.C. 4321 et seq.) and has determined that it is categorically excluded pursuant to DOT Order 5610.1C, Procedures for Considering Environmental Impacts (44 FR 56420, Oct. 1, 1979). Categorical exclusions are actions identified in an agency's NEPA implementing procedures that do not normally have a significant impact on the environment and therefore do not require either an environmental assessment (EA) or environmental impact statement (EIS). See 40 CFR 1508.4. In analyzing the applicability of a categorical exclusion, the agency must also consider whether extraordinary circumstances are present that would warrant the preparation of an EA or EIS. Id. Paragraph 3.c.5 of DOT Order 5610.1C incorporates by reference the categorical exclusions for all DOT Operating Administrations. This action is covered by the categorical exclusion listed in the Federal Highway Administration's implementing procedures, “[p]romulgation of rules, regulations, and directives.” 23 CFR 771.117(c)(20). The purpose of this rulemaking is to update the regulation that outlines the requirements for Federal Awards and to revise section cross-references to conform with the 2020 changes to the OMB Guidance for Grants and Agreements. The agency does not anticipate any environmental impacts, and there are no extraordinary circumstances present in connection with this rulemaking.

List of Subjects in 2 CFR Part 1201

Accounting, Administrative practice and procedure, Adult education, Aged, Agriculture, American Samoa, Bilingual education, Blind, Business and industry, Civil rights, Colleges and universities, Communications, Community development, Community facilities, Copyright, Credit, Cultural exchange programs, Educational facilities, Educational research, Education, Education of disadvantaged, Education of individuals with disabilities, Educational study programs, Electric power, Electric power rates, Electric utilities, Elementary and secondary education, Energy conservation, Equal educational opportunity, Federally affected areas, Government contracts, Grant programs, Grants administration, Guam, Home improvement, Homeless, Hospitals, Housing, Human research subjects, Indians, Indians-education, Infants and children, Insurance, Intergovernmental relations, International organizations, Inventions and patents, Loan programs, Manpower training programs, Migrant labor, Mortgage insurance, Nonprofit organizations, Northern Mariana Islands, Pacific Islands Trust Territories, Privacy, Renewable energy, Reporting and recordkeeping requirements, Rural areas, Scholarships and fellowships, School construction, Schools, Science and technology, Securities, Small businesses, State and local governments, Student aid, Teachers, Telecommunications, Telephone, Urban areas, Veterans, Virgin Islands, Vocational education, Vocational rehabilitation, Waste treatment and disposal, Water pollution control, Water resources, Water supply, Watersheds, Women.

For the reasons stated in the preamble, the Department of Transportation amends 2 CFR part 1201 as set forth below:

PART 1201—UNIFORM ADMINISTRATIVE REQUIREMENTS, COST PRINCIPLES, AND AUDIT REQUIREMENTS FOR FEDERAL AWARDS

1. The authority citation for part 1201 continues to read as follows:

Authority: 49 U.S.C. 322(a); 2 CFR 200.106.

§ 1201.80 [Amended]

2. In § 1201.80, remove “2 CFR 200.80” and add in its place “2 CFR 200.1” and remove “See 2 CFR 200.77 Period of performance.” and add in its place “See 2 CFR 200.1 Definitions.”

§ 1201.206 [Redesigated as § 1201.207 and Amended]

3. Redesignate § 1201.206 as § 1201.207 and amend the newly redesignated section by removing “2 CFR 200.206” and adding in its place “2 CFR 200.207”.

§ 1201.327 [Redesigated as § 1201.328 and Amended]

4. Redesignate § 1201.327 as § 1201.328 and amend the newly redesignated section by removing “2 CFR 200.327” and adding in its place “2 CFR 200.328”.

Signed under authority provided by 49 U.S.C. 322(a), 2 CFR 200.106, and 49 CFR 1.27 in Washington, DC on February 21, 2023.
John E. Putnam,
General Counsel, U.S. Department of Transportation.

[FR Doc. 2023-03891 Filed 2-28-23; 8:45 am]

BILLING CODE 4910-9X-P